OFFICE OF PERSONNEL MANAGEMENT

Privacy Act of 1974: Amendment to System of Records

AGENCY: U.S. Office of Personnel Management.

ACTION: Proposed new Category of Records and a new Routine Use in OPM/GOVT-1 system of records.

SUMMARY: The U.S. Office of Personnel Management (OPM) proposes to add a new Category of Records and a new Routine Use to OPM/GOVT-1, General Personnel Records, System of Records. This action is necessary to meet the requirements of the Privacy Act to publish in the Federal Register notice of the existence and character of records maintained by the agency (5 U.S.C. 552a(e)(4)). OPM last published OPM/Govt-1 on June 19, 2006 (FR Vol. 71, Number 117).

DATES: This action will be effective without further notice on February 8, 2010 unless comments are received that would result in a contrary determination.

ADDRESSES: Send written comments to the Office of Personnel Management, Deputy Associate Director, Center for Workforce Information and Systems Requirements, Room 7439, U.S. Office of Personnel Management, 1900 E Street, NW., Washington, DC 20415.

FOR FURTHER INFORMATION CONTACT: Michael Trinite, Privacy Advisor 202-606-2016, fax 202-606-1719 or e-mail: Michael.Trinite@opm.gov.

SUPPLEMENTARY INFORMATION: In accordance with the Privacy Act of 1974, 5 U.S.C. 552(a), this document provides public notice that the OPM is proposing to adopt a new Category of Records “o” and a new Routine Use “pp” in OPM/GOVT-1, General Personnel Records system of records. These changes will not affect any Privacy Act rights afforded individuals who are the subject of such records. A new Routine Use “pp” for OPM/GOVT-1 is being proposed to provide relevant and necessary information to Federal Government Web sites and to any person in support of E.O. 13490, January 21, 2009, Ethics Commitments by Executive Branch Personnel, and in support of the White House's core principles for the business of government; transparency, participation, collaboration and innovation.

A new Category of Records is being established to accommodate the requirements, as established in E.O. 13490, January 21, 2009, for retaining the ethics pledges and pledge waiver certifications thereof in the Official Personnel Folder.

The system report, as required by 5 U.S.C. 552a(r), has been submitted to the Committee on Governmental Affairs of the United States Senate, the Committee on Government Reform and Oversight of the House of Representatives and the Office of Management and Budget.

Routine Use “pp”

“pp” to disclose on public and internally-accessible Federal Government Web sites, and to otherwise disclose to any person, including other departments and agencies, the signed ethics pledges and pledge waiver certifications issued under E.O. 13490 of January 21, 2009, Ethics Commitments by Executive Branch Personnel.

Category of Records

“o” records maintained in accordance with E.O. 13490, section 4(e), January 21, 2009. These records include the ethics pledge and all pledge waiver certifications with respect thereto.

U.S. Office of Personnel Management.
John Berry,
Director.

[FR Doc. E9-31026 Filed 12-29-09; 8:45 am]

BILLING CODE 6325-39-P